DEPARTMENT OF TRANSPORTATION

Federal Highway Administration

[Docket No. FHWA-2014-0038]

Agency Information Collection Activities: Notice of Request for Approval of a New Information Collection

AGENCY: Federal Highway Administration (FHWA), DOT.

ACTION: Notice of request for approval of a new information collection.

SUMMARY: The FHWA invites public comments about our intention to request the Office of Management and Budget's (OMB) approval of a new information collection that is summarized below.

SUPPLEMENTARY INFORMATION: We are required to publish this notice in the Federal Register by the Paperwork Reduction Act of 1995.

DATES: Please submit comments by January 12, 2015.

ADDRESSES: You may submit comments identified by DOT Docket ID Number 2014-0038 by any of the following methods:

Web site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue SE., Washington, DC 20590.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Keith Williams, 202-366-9212, Highway Safety Specialist, Office of Safety Programs, Federal Highway Administration, Department of Transportation, 1200 New Jersey Avenue SE., Room E71-119, Washington, DC 20590, Monday through Friday, except Federal holidays.

SUPPLEMENTARY INFORMATION: Title: Inventory of State Police Accident Reports (PAR) and Serious Injury Reporting.

Type of request: New information collection requirement.

Background: The Federal Highway Administration (FHWA) Office of Safety's mission is to exercise leadership throughout the highway community to make the Nation's roadways safer by developing, evaluating, and deploying life-saving countermeasures; advancing the use of scientific methods and data-driven decisions, fostering a safety culture, and promoting an integrated, multidisciplinary 4 E's (Engineering, Education, Enforcement, Education) approach to safety. The mission is carried out through the Highway Safety Improvement Program (HSIP), a data driven strategic approach to improving highway safety on all public roads that focuses on performance. The goal of the program is to achieve a significant reduction in traffic fatalities and serious injuries on all public roads, including non-State-owned public roads and roads on tribal lands.

In keeping with that mission, the United States Congress on June 29, 2012 passed the Moving Ahead for Progress in the 21st Century Act (MAP-21), which was signed into law (Pub. L. 112-141) on July 6, 2012 by President Barrack Obama. MAP-21 is a milestone for the U.S. economy and the Nation's surface transportation program as it transformed the policy and programmatic framework for investments to guide the system's growth and development and created a streamlined performance-based surface transportation program. The Federal Highway Administration defines Transportation Performance Management as a strategic approach that uses system information to make investment and policy decisions to achieve national performance goals.

MAP-21 requires the Secretary of Transportation to establish performance measures for States to use to assess serious injuries and fatalities per vehicle mile traveled; and the number of serious injuries and fatalities, for the purposes of carrying out the HSIP under 23 U.S.C. 148. The HSIP is applicable to all public roads and therefore requires crash reporting by law enforcement agencies that have jurisdiction over them.

In defining performance measures for serious injuries, FHWA seeks to define serious injuries in a manner that would provide for a uniform definition for national reporting in this performance area, as required by MAP-21. An established standard for defining serious injuries as a result of highway crashes has been developed in the 4th edition of the Model Minimum Uniform Crash Criteria (MMUCC). MMUCC represents a voluntary and collaborative effort to generate uniform crash data that are accurate, reliable and credible for data-driven highway safety decisions within a State, between States, and at the national level. The MMUCC defines a serious injuries resulting from traffic crashes as “Suspected Serious Injury (A)” whose attributes are:

Any injury, other than fatal, which results in one or more of the following: Severe laceration resulting in exposure of underlying tissues, muscle, organs, or resulting in significant loss of blood, broken or distorted extremity (arm or leg), crush injuries, suspected skull, chest, or abdominal injury other than bruises or minor lacerations, significant burns (second and third degree burns over 10 percent or more of the body), unconsciousness when taken from the crash scene, or paralysis.

As part of the effort to understand current reporting levels for serious injuries to support the MAP-21 performance measures, the FHWA seeks to determine at what level law enforcement agencies have adopted the MMUCC definition, attribute and coding convention. FHWA is aware that not all States have adopted the MMUCC definition, attribute and coding convention for serious injuries while other States have only partially adopted the definition. It is also known that some jurisdictions do not use the State Police Accident Report (PAR) form to report on crashes. It is not known if these PARs are MMUCC compliant.

The purpose of the information collection is to conduct an assessment of each Federal, tribal, State and non-State PAR to determine if the definition and coding convention used for reporting on serious injuries is or is not compliant with MMUCC, and if not compliant, the definition and coding convention that is used.

Respondents: Federal State, the District of Columbia, Puerto Rico, tribal and local traffic records management agencies. (75 total).

Frequency: One time collection.

Estimated Average Burden per Response: It will take approximately 15 minutes per participant.

Estimated Total Annual Burden Hours: Approximately 19 hours for a one time collection.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: November 5, 2014.
Michael Howell,
Information Collection Officer.

[FR Doc. 2014-26730 Filed 11-10-14; 8:45 am]

BILLING CODE 4910-22-P